DEPARTMENT OF THE TREASURY

Submission for OMB Review; Comment Request

June 7, 2007.

The Department of the Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before July 13, 2007 to be assured of consideration.

Financial Crimes Enforcement Network (FinCEN)

OMB Number: 1506-0003.

Type of Review: Revision.

Title: Imposition of Special Measure Against Commercial Bank of Syria, Including its Subsidiary, Syrian Lebanese Commercial Bank, as a Financial Institution of Primary Money Laundering Concern.

Description: This information will be used to verify compliance by financial institutions with the requirements to notify their correspondent account holders.

Respondents: Business and other for profit.

Estimated Total Reporting Burden: 5,000 hours.

Clearance Officer: Russell Stephenson, (202) 354-6012, Department of the Treasury, Financial Crimes Enforcement Network, P.O. Box 39, Vienna, VA 22183.

OMB Reviewer: Alexander T. Hunt, (202) 395-7316, Office of Management and Budget, Room 10235, New Executive Office Building, Washington, DC 20503.

Robert Dahl,
Treasury PRA Clearance Officer.

[FR Doc. E7-11494 Filed 6-12-07; 8:45 am]

BILLING CODE 4810-02-P